FEDERAL MARITIME COMMISSION

Notice of Agreement Filed; Correction

AGENCY: Federal Maritime Commission.

Citation of Previous Notice of Agreements Filed: 75 FR 61757, October 6, 2010.

Previous Notice of Agreements: October 1, 2010.

Correction to the Notice of Agreements Filed: In the October 6, 2010 Notice announcing the filing of an amendment to Agreement 011611, the Amendment was erroneously numbered and described. The correct notice should read as follows:

Agreement No.: 011611-003.

Title: MOL/APL Slot Transfer Agreement.

Parties: American President Lines, Ltd.; APL Co. PTE, Ltd.; and Mitsui O.S.K. Lines, Ltd.

Filing Party: Eric C. Jeffrey, Esq.; Goodwin Procter LLP; 901 New York Ave., NW., Washington, DC 20001.

Synopsis: The amendment updates APL's corporate address.

Contact Person for More Information: Karen V. Gregory, Secretary, (202) 523-5725.

Rachel E. Dickon,
Assistant Secretary.

[FR Doc. 2010-25791 Filed 10-13-10; 8:45 am]

BILLING CODE 6730-01-P